DEPARTMENT OF THE INTERIOR

National Park Service

Going-to-the-Sun Road (GTSR) Rehabilitation Plan Final Environmental Impact Statement, Glacier National Park, Montana

AGENCY: National Park Service, Department of the Interior.

ACTION: Notice of Availability of the Final Environmental Impact Statement for the Going-to-the-Sun Road Rehabilitation Plan, Glacier National Park.

SUMMARY: Pursuant to the National Environmental Policy Act of 1969, 42 U.S.C. 4332(c), the National Park Service announces the availability of the Final Environmental Impact Statement for the Going-to-the-Sun Road Rehabilitation Plan, Glacier National Park, Montana.

DATES: The National Park Service will execute a Record of Decision (ROD) no sooner than 30 days following publication by the Environmental Protection Agency of the notice of availability of the Final Environmental Impact Statement.

ADDRESSES: Information will be available for public review in the office of the Superintendent and at the following locations:

Office of the Superintendent, Glacier National Park, West Glacier, MT 59936, (406) 888-7901.

Glacier National Park, Hudson Bay District Office, St. Mary, MT 59417, (406) 732-7707.

Project Management Office, Glacier National Park, West Glacier, MT 59936, (406) 888-7972.

Planning and Environmental Quality, Intermountain Support Office—Denver, National Park Service, P.O. Box 25287, Denver, CO 80225-0287, (303) 969-2851 or 2377.

Office of Public Affairs, National Park Service, Department of Interior, 18th and C Streets NW, Washington, DC 20240, (202) 208-6843.

Bozeman Public Library, 220 East Lamme, Bozeman, MT 59715.

Browning Public Library, P.O. Box 550, Browning, MT 59417.

Butte County Library, 226 W. Broadway, Butte, MT 59701.

Cardston Public Library, 25 3rd Avenue West, Cardston, Alberta Canada TOK OKO.

Choteau Public Library, 17 North Main Avenue, Choteau, MT 59422.

Columbia Falls Branch Library, 120 6th Street West, Columbia Falls, MT 59912.

Cut Bank Library, 21 1st Avenue SE, Cut Bank, MT 59427.

Flathead County Library, 247 1st Avenue East, Kalispell, MT 59901.

Great Falls Public Library, 301 2nd Avenue North, Great Falls, MT 59401.

Lethbridge Public Library, 810-5 Avenue South, Lethbridge, Alberta, Canada T1J 4C4.

Lewis and Clark Library, 120 South Last Chance Gulch, Helena, MT 59624.

Missoula Public Library, 301 East Main, Missoula, MT 59802.

Parmly Billings Library, 501 North Broadway, Billings, MT 59101.

Pincher Creek Municipal Library, 895 Main Street, Pincher Creek, Alberta, Canada TOK 1WO.

Waterton Lakes National Park, Park Administration Building, 215 Mountain View Road, Alberta, Canada TOK 2MO.

Whitefish Branch Library, 9 Spokane Avenue, Whitefish, MT 59937.

FOR FURTHER INFORMATION CONTACT: Mary Riddle, Glacier National Park, 406-888-7898.

Dated: April 14, 2003.
Michael D. Sunner,
Director, Intermountain Region, National Park Service.

[FR Doc. 03-11268 Filed 5-6-03; 8:45 am]

BILLING CODE 4312-HX-P